DEPARTMENT OF AGRICULTURE

Forest Service

White River National Forest; Pitkin County; Colorado; Snowmass Multi-Season Recreation Projects

AGENCY: Forest Service, USDA.

ACTION: Notice of intent to prepare an environmental impact statement.

SUMMARY: Aspen Skiing Company (ASC) has submitted a proposal to the White River National Forest (WRNF) to pursue approval of select projects from the 2015 Snowmass Mountain Master Development Plan (SMMDP) at Snowmass Ski Area (Snowmass). The WRNF has accepted this proposal and is initiating the preparation of an Environmental Impact Statement (EIS) to analyze and disclose the potential environmental effects of implementing the projects. The Proposed Action includes: Mountain biking and hiking trails; a mountain coaster; a canopy tour and zip line; a challenge course; a climbing wall; and multi-purpose activity areas.

DATES: Comments concerning the scope of the analysis must be received May 2, 2016. A public open house regarding this proposal will be held on April 7, 2016 from 6:00 p.m. to 8:00 p.m. at the Treehouse Kids Adventure Center, Eagle Peak Room (120 Lower Carriage Way, Snowmass Village, CO 81615). The venue is on the west end of the Base Village Plaza, just downhill of the Village Express Chairlift. The draft environmental impact statement is expected to be available for public review in summer 2016, and the final environmental impact statement is expected winter 2017.

ADDRESSES: Send written comments to: Scott Fitzwilliams, Forest Supervisor, c/o Roger Poirier, Project Leader, 900 Grand Avenue, Glenwood Springs, CO 81601, FAX: (970) 963-1012 (please include “Snowmass Multi-Season Recreation Projects” in the subject line).

FOR FURTHER INFORMATION CONTACT: Additional information related to the proposed project can be obtained from: Roger Poirier, Project Leader. Mr. Poirier can be reached by phone at (970) 945-3245 or by email at rogerepoirier@fs.fed.us

Individuals who use telecommunication devices for the deaf (TDD) may call the Federal Information Relay Service (FIRS) at 1-800-877-8339 between 8 a.m. and 8 p.m., Eastern Time, Monday through Friday.

SUPPLEMENTARY INFORMATION:

Purpose and Need for Action

Interest in summer outdoor recreation at ski areas has grown nationwide in recent years, and is particularly visible in Colorado. Summer recreation activities have evolved to include a significant variety of opportunities and user experiences. Likewise, recreational use in the National Forests has evolved beyond the traditional activities and solitude-seeking experiences such as hunting, fishing, camping, or hiking.

Snowmass has been offering summer recreation opportunities since the 1990s and has utilized the Elk Camp area as the designated hub for these activities since 2009. The various programs currently offered have proven to be popular and well-received by guests. These opportunities primarily include dispersed activities, specifically lift-served hiking and mountain biking via the Elk Camp Gondola and Chairlift, and dispersed activities on multiple-use trails on the western side of the mountain.

The activities at Snowmass are fairly limited to a spectrum of visitors that have the physical ability and skillset to participate. There are few opportunities for developed recreation that enable guests without a particular level of skill or experience to engage in adventure or thrill-based experiences.

There is a desire to offer a range of experiences to engage current Forest users as well as encourage new users to visit and experience National Forest System (NFS) lands. Currently at Snowmass there is a lack of recreational opportunities that provide:

• Adventure or thrill-based experiences that require little specialized knowledge, skills, equipment or familiarity with the mountain environment—elements which can be a barrier for visitors (e.g., families, the elderly/aging, or those with disabilities) desiring to engage in outdoor activities;

• Sufficient supply and variety of mountain biking trails serving a wide range of ability levels;

• Settings for educational and interpretive programs and events; and

• Activity-based interaction with a forested, mountain environment in a controlled setting, offering an opportunity for users to interact with and learn about nature.

There is a need for a broad and diverse mix of multi-season recreational activities that collectively provide the public with a range of outdoor activities from passive to active, intimate to interactive, and serve a range of personal interests, skills and abilities among guests.

Proposed Action

The Proposed Action includes the construction of the following elements:

• Approximately 16 miles of new mountain biking and hiking trails;

• A mountain coaster in the Elk Camp vicinity;

• A canopy tour near Elk Camp Meadows;

• A zip line down to the Gondola Turn Station;

• A challenge course in the Elk Camp Meadows area;

• A permanent climbing wall within the former Café Suzanne restaurant site;

• Multi-purpose activity areas.

A full description of each element can be found at http://www.fs.usda.gov/project/?project=49057.

Responsible Official

The Responsible Official is Scott Fitzwilliams, Forest Supervisor for the WRNF.

Nature of Decision To Be Made

Based on the analysis that will be documented in the forthcoming EIS, the Responsible Official will decide whether or not to implement, in whole or in part, the Proposed Action or another alternative that may be developed by the Forest Service as a result of scoping.

Scoping Process

This notice of intent initiates the scoping process, which guides the development of the environmental impact statement. The Forest Service is soliciting comments from Federal, State and local agencies and other individuals or organizations that may be interested in or affected by implementation of the proposed projects. A public open house regarding this proposal will be held on April 7, 2016 from 6:00 p.m. to 8:00 p.m. at the Treehouse Kids Adventure Center, Eagle Peak Room (120 Lower Carriage Way, Snowmass Village, CO 81615). The venue is on the west end of the Base Village Plaza, just downhill of the Village Express Chairlift. Continuous bus service is available via RFTA or TOSV bus systems, and free parking is available in the Base Village Parking Garage after 5:00 p.m. Representatives from the WRNF and ASC will be present to answer questions and provide additional information on this project.

To be most helpful, comments should be specific to the project area and should identify resources or effects that should be considered by the Forest Service. Submitting timely, specific written comments during this scoping period or any other official comment period establishes standing for filing objections under 36 CFR parts 218 A and B. Additional information and maps of this proposal can be found at: http://www.fs.usda.gov/project/?project=49057.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: March 25, 2016.
Scott Fitzwilliams,
Forest Supervisor.

[FR Doc. 2016-07279 Filed 3-31-16; 8:45 am]

BILLING CODE 3410-11-P